NUCLEAR REGULATORY COMMISSION

[Docket No. NRC-2012-0245]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 14, 2012 (77 FR 69664).

1. Type of submission, new, revision, or extension: New.

2. The title of the information collection: Voluntary Reporting of Planned Topical Report Submissions.

3. Current OMB approval number: 3150-XXXX.

4. The form number if applicable: N/A.

5. How often the collection is required: Annually.

6. Who will be required or asked to report: Organizations submitting topical reports for review by the NRC staff.

7. An estimate of the number of annual responses: 10.

8. The estimated number of annual respondents: 10.

9. An estimate of the total number of hours needed annually to complete the requirement or request: 1,000 hours

10. Abstract: The NRC collects planning information on topical report (TR) submissions from nuclear power plant owner groups (OGs), vendors, the Electric Power Research Institute, and the Nuclear Energy Institute (NEI) in accordance with agency guidance to process requests for reviews of TRs. A TR is a stand-alone report containing technical information about a nuclear power plant safety topic that can be submitted to the NRC for its review and approval. A TR improves the efficiency of the licensing process by allowing the staff to review a proposed methodology, design, operational requirements, or other safety-related subjects that will be used by multiple licensees following approval by referencing the approved TR. The TR provides the technical basis for a licensing action. Vendors have voluntarily submitted information related to planned submittals of TRs on an annual basis. As part of its ongoing efforts to improve the effectiveness and efficiency of the TR program, the agency requires up-to-date information on planned TR submittals.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by March 21, 2013. Comments received after this date will be considered if it is practical to do so, but assurance of consideration cannot be given to comments received after this date.

Chad Whiteman, Desk Officer, Office of Information and Regulatory Affairs (3150-XXXX), NEOB-10202, Office of Management and Budget, Washington, DC 20503.

Comments can also be emailed to Chad S Whiteman@omb.eop.gov or submitted by telephone at 202-395-4718.

The NRC Clearance Officer is Tremaine Donnell, 301-415-6258.

Dated at Rockville, Maryland, this 12th day of February 2013.
For the Nuclear Regulatory Commission.
Tremaine Donnell,
NRC Clearance Officer, Office of Information Services.

[FR Doc. 2013-03721 Filed 2-15-13; 8:45 am]

BILLING CODE 7590-01-P